DEPARTMENT OF THE INTERIOR

National Park Service

[NPS-WASO-NAGPRA-11492; 2200-1100-665]

Notice of Inventory Completion: U.S. Department of Agriculture, Forest Service, Ozark-St. Francis National Forests, Russellville, AR

AGENCY: National Park Service, Interior.

ACTION: Notice.

SUMMARY: The U.S. Department of Agriculture (USDA), Forest Service, Ozark-St. Francis National Forests has completed an inventory of human remains and associated funerary objects, in consultation with the appropriate Indian tribes, and has determined that there is a cultural affiliation between the human remains and associated funerary objects and present-day Indian tribes. Representatives of any Indian tribe that believes itself to be culturally affiliated with the human remains and associated funerary objects may contact the Ozark-St. Francis National Forests. Repatriation of the human remains and associated funerary objects to the Indian tribes stated below may occur if no additional claimants come forward.

DATES: Representatives of any Indian tribe that believes it has a cultural affiliation with the human remains and associated funerary objects should contact the Ozark-St. Francis National Forests at the address below by December 17, 2012.

ADDRESSES: Judith L. Henry, Forest Supervisor, USDA Forest Service, Ozark-St. Francis National Forests, Russellville, AR 72801, telephone (479) 964-7202.

SUPPLEMENTARY INFORMATION: Notice is here given in accordance with the Native American Graves Protection and Repatriation Act (NAGPRA), 25 U.S.C. 3003, of the completion of an inventory of human remains and associated funerary objects in the possession of the Ozark-St. Francis National Forests. The human remains and associated funerary objects were removed from lands on the Ozark-St. Francis National Forests or were removed from private land and donated to the Ozark-St. Francis National Forests by private collectors.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Ozark-St. Francis National Forests professional staff in consultation with representatives of the Absentee-Shawnee Tribe of Indians of Oklahoma; Alabama-Quassarte Tribal Town; Caddo Nation of Oklahoma; Cherokee Nation; Chickasaw Nation; Choctaw Nation of Oklahoma; Delaware Nation, Oklahoma; Eastern Shawnee Tribe of Oklahoma; Jena Band of Choctaw Indians; Kialegee Tribal Town; Miami Tribe of Oklahoma; Mississippi Band of Choctaw Indians; Peoria Tribe of Indians of Oklahoma; Quapaw Tribe of Indians; Shawnee Tribe; The Muscogee (Creek) Nation; The Osage Nation (previously listed as the Osage Tribe); The Seminole Nation of Oklahoma; Thlopthlocco Tribal Town; Tunica-Biloxi Indian Tribe; United Keetoowah Band of Cherokee Indians in Oklahoma; and the Wichita and Affiliated Tribes (Wichita, Keechi, Waco & Tawakonie), Oklahoma.

History and Description of the Remains

In 1955, human remains representing, at minimum, one individual were removed from site 3ST27, on the Ozark-St. Francis National Forests, by caver Roger Bottoms, in Stone County, AR. No known individuals were identified. No associated funerary objects are present.

In 1973, additional human remains representing, at minimum, two individuals were removed from sites 3ST12 and 3ST26, on private property, by Don Williams, USDA-Forest Service Geologist, also in Stone County, AR, and added to the human remains from site 3ST27. No known individuals were identified. No associated funerary objects are present.

The sites date from A.D. 165 to 1600. Sites 3ST27, 3ST12, and 3ST26 are located within the historical range of The Osage Nation and the Quapaw Tribe of Indians.

Determinations Made by the USDA Forest Service, Ozark-St. Francis National Forests

Officials of the USDA Forest Service, Ozark-St. Francis National Forests have determined that:

• Pursuant to 25 U.S.C. 3001(9), the human remains described in this notice represent the physical remains of 3 individuals of Native American ancestry.

• Pursuant to 25 U.S.C. 3001(2), there is a relationship of shared group identity that can be reasonably traced between the Native American human remains and associated funerary objects and The Osage Nation and the Quapaw Tribe of Indians.

Additional Requestors and Disposition

Representatives of any Indian tribe that believes itself to be culturally affiliated with the human remains and associated funerary objects should contact Judith L. Henry, Forest Supervisor, USDA Forest Service Ozark-St. Francis National Forests, Russellville, AR 72801, telephone (479) 964-7202, before December 17, 2012. Repatriation of the human remains and associated funerary objects to The Osage Nation and the Quapaw Tribe of Indians may proceed after that date if no additional claimants come forward.

The USDA Forest Service, Ozark-St. Francis National Forests, is responsible for notifying the Absentee-Shawnee Tribe of Indians of Oklahoma; Alabama-Quassarte Tribal Town; Caddo Nation of Oklahoma; Cherokee Nation; Chickasaw Nation; Choctaw Nation of Oklahoma; Delaware Nation, Oklahoma; Eastern Shawnee Tribe of Oklahoma; Jena Band of Choctaw Indians; Kialegee Tribal Town; Miami Tribe of Oklahoma; Mississippi Band of Choctaw Indians; Peoria Tribe of Indians of Oklahoma; Quapaw Tribe of Indians; Shawnee Tribe; The Muscogee (Creek) Nation; The Osage Nation (previously listed as the Osage Tribe); The Seminole Nation of Oklahoma; Thlopthlocco Tribal Town; Tunica-Biloxi Indian Tribe; United Keetoowah Band of Cherokee Indians in Oklahoma; and the Wichita and Affiliated Tribes (Wichita, Keechi, Waco & Tawakonie), Oklahoma, that this notice has been published.

Dated: October 12, 2012.
Sherry Hutt,
Manager, National NAGPRA Program.

[FR Doc. 2012-27951 Filed 11-15-12; 8:45 am]

BILLING CODE 4312-50-P